DEPARTMENT OF THE INTERIOR

Fish and Wildlife Service

Receipt of an Application for an Incidental Take Permit for Residential Construction in Charlotte County, FL

AGENCY: Fish and Wildlife Service, Interior.

ACTION: Notice.

SUMMARY: We, the Fish and Wildlife Service (Service), announce the availability of an incidental take permit (ITP) and Habitat Conservation Plan (HCP). Bertha Pauwels and Anna Angellotti (applicants) request an ITP pursuant to section 10(a)(1)(B) of the Endangered Species Act of 1973, as amended (Act). The applicants anticipate taking about 0.46 acre of Florida scrub-jay (Aphelocoma coerulescens) (scrub-jay) foraging and sheltering habitat incidental to lot preparation for the construction of a multiple-family residence and supporting infrastructure in Charlotte County, Florida (project). The applicants' HCP describes the mitigation and minimization measures proposed to address the effects of the project on the scrub-jay.

DATES: We must receive your written comments on the ITP application and HCP on or before January 9, 2008.

ADDRESSES: See the SUPPLEMENTARY INFORMATION section below for information on how to submit your comments on the ITP application and HCP. You may obtain a copy of the ITP application and HCP by writing the South Florida Ecological Services Office, Attn: Permit number TE169281-0, U.S. Fish and Wildlife Service, 1339 20th Street, Vero Beach, FL 32960-3559. In addition, we will make the ITP application and HCP available for public inspection by appointment during normal business hours at the above address.

FOR FURTHER INFORMATION CONTACT: Ms. Trish Adams, Fish and Wildlife Biologist, South Florida Ecological Services Office (see ADDRESSES); telephone: (772) 562-3909, ext. 232.

SUPPLEMENTARY INFORMATION: If you wish to comment on the ITP application and HCP, you may submit comments by any one of the following methods. Please reference permit number TE169281-0 in such comments.

1. Mail or hand-deliver comments to our South Florida Ecological Services Office address (see ADDRESSES).

2. E-mail comments to trish_adams@fws.gov. If you do not receive a confirmation that we have received your e-mail message, contact us directly at the telephone number listed under FOR FURTHER INFORMATION CONTACT.

Before including your address, phone number, e-mail address, or other personal identifying information in your comments, you should be aware that your entire comment-including your personal identifying information-may be made publicly available at any time. While you can ask us in your comment to withhold your personal identifying information from public review, we cannot guarantee that we will be able to do so.

Multiple-family residential construction for the applicants' HCP will take place within Section 09, Township 40, Range 23, Punta Gorda, Charlotte County, Florida, at 26471 Explorer Road. This lot is within scrub-jay-occupied habitat.

The lot encompasses about 0.46 acre, and the footprint of the multiple-family residence, infrastructure, and landscaping preclude retention of scrub-jay habitat on this lot. In order to minimize take on site, the applicants propose to mitigate for the loss of 0.46 acre of scrub-jay habitat by contributing a total of $25,599 to the Florida Scrub-jay Conservation Fund administered by The Nature Conservancy. Funds in this account are earmarked for use in the conservation and recovery of scrub-jays and may include habitat acquisition, restoration, and/or management.

We have determined that the applicants' proposal, including the proposed mitigation and minimization measures, will have a minor or negligible effect on the species covered in the HCP. Therefore, the ITP is a “low-effect” project and qualifies as a categorical exclusion under the National Environmental Policy Act (NEPA), as provided by the Department of the Interior Manual (516 DM 2 Appendix 1 and 516 DM 6 Appendix 1). Low-effect HCPs are those involving (1) minor or negligible effects on federally listed or candidate species and their habitats and (2) minor or negligible effects on other environmental values or resources. Based on our review of public comments that we receive in response to this notice, we may revise this preliminary determination.

We will evaluate the HCP and comments submitted thereon to determine whether the application meets the requirements of section 10(a) of the Act (16 U.S.C. 1531 et seq.). If we determine that the application meets the requirements, we will issue the ITP for incidental take of the scrub-jay. We will also evaluate whether issuance of the section 10(a)(1)(B) ITP complies with section 7 of the Act by conducting an intra-Service section 7 consultation. We will use the results of this consultation, in combination with the above findings, in the final analysis to determine whether or not to issue the ITP.

Authority: We provide this notice pursuant to Section 10 of the Endangered Species Act (16 U.S.C. 1531 et seq.) and NEPA regulations (40 CFR 1506.6).

Dated: November 6, 2007.
Paul Souza,
Field Supervisor, South Florida Ecological Services Office.

[FR Doc. E7-23876 Filed 12-7-07; 8:45 am]

BILLING CODE 4310-55-P